DEPARTMENT OF DEFENSE

Office of the Secretary

Privacy Act of 1974; System of Records

AGENCY: Office of the Secretary, DoD.

ACTION: Notice to add systems of records.

SUMMARY: The Office of the Secretary of Defense proposes to add a system of records notice to its inventory of record systems subject to the Privacy Act of 1974 (5 U.S.C. 552a), as amended.

DATES: The changes will be effective on July 14, 2003 unless comments are received that would result in a contrary determination.

ADDRESSES: Send comments to Directives and Records Division, Directives and Records Branch, Washington Headquarters Services, 1155 Defense Pentagon, Washington, DC 20301-1155.

FOR FURTHER INFORMATION CONTACT: Mr. Dan Cragg at (703) 601-4722.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on May 28, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 4, 2003.
Patricia L. Toppings,
Alternate OSD Federal Register Liaison Officer, Department of Defense.

System name:

Qualification of Civilian Defense Counsel for Military Commissions.

System location:

Chief Defense Counsel, Office of Military Commissions, Office of the General Counsel, Department of Defense, 1600 Defense Pentagon, Washington, DC 20301-1600.

Categories of individuals covered by the system:

Civilian Defense Counsel seeking admission to practice before Military Commissions in accordance with Military Commission Instruction No. 5.

Categories of records in the system:

Records relating to the professional qualifications of civilian counsel to practice before Military Commissions. Records include full name of the individual, work address and phone number; Social Security Number; proof of U.S. citizenship; certificate showing good standing with the bar of a qualifying jurisdiction; statement detailing all sanctions or disciplinary actions pending or final, to which he/she has been subject; information required to conduct a background investigation for security clearance; a properly executed ‘Authorization for Release of Information’ and ‘Affidavit and Agreement by Civilian Defense Counsel’; and a one-page resume from the civilian defense counsel that will be provided to the detainees.

Authority for maintenance of the system:

5 U.S.C. 301, Departmental Regulations; 5 U.S.C. 113, Secretary of Defense; Military Commission Instruction No. 5, Qualification of Civilian Defense Counsel; section 4C(3)(b) of Military Commission Order No. 1, Procedures for Trials by Military Commissions of Certain Non-United States Citizens in the War Against Terrorism; Military Order of November 13, 2001, Detention, Treatment, and Trial of Certain Non-Citizens in the War Against Terrorism; and E.O. 9397 (SSN).

Purpose(s):

The information is collected for the purpose of determining whether the individual meets prescribed eligibility criteria to serve as civilian defense counsel for an accused who will appear before a Military Commission.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

To accused for purposes of furnishing information on individuals who are qualified to appear before a Military Commission as a civilian defense counsel.

The DoD “Blanket Routine Uses” set forth at the beginning of OSD's compilation of systems of records notices apply to this system.

Policies and practices for storing, retrieving, accessing, retaining, and disposing of records in the system:

Storage:

Records are stored as paper files only.

Retrievability:

Retrieved by the individual's full name.

Safeguards:

Records are maintained in a secure, limited access or monitored area. Physical entry by unauthorized persons is restricted by the use of locks, guards, or administrative procedures. Access to personal information is limited to those who require the records to perform their official duties. All personnel whose official duties require access to the information are trained in the proper safeguarding and use of the information.

Retention and disposal:

Disposition pending. Until the National Archives and Records Administration has approved the retention and disposition of these records, treat records as permanent.

System manager(s) and address:

Chief Defense Counsel, Office of Military Commissions, Office of the General Counsel, Department of Defense, 1600 Defense Pentagon, Washington, DC 20301-1600.

Notification procedure:

Individuals seeking to determine whether this system of records contains information about themselves should address written inquiries to the Chief Defense Counsel, Office of Military Commissions, Office of the General Counsel, Department of Defense, 1600 Defense Pentagon, Washington, DC 20301-1600.

Requests for information should contain the individual's full name.

Records access procedures:

Individuals seeking to access information about themselves contained in this system of records should address written inquiries to the Chief Defense Counsel, Office of Military Commissions, Office of the General Counsel, Department of Defense, 1600 Defense Pentagon, Washington, DC 20301-1600.

Requests for information should contain the individual's full name.

Contesting record procedures:

The OSD rules for accessing records, for contesting contents and appealing initial agency determinations are published in OSD Administrative Instruction 81; 32 CFR part 311; or may be obtained from the system manager.

Record source categories:

The source of record is from the individuals concerned and State Bar Associations.

Exemptions claimed for the system:

None.

[FR Doc. 03-14815 Filed 6-11-03; 8:45 am]

BILLING CODE 5001-08-P